DEPARTMENT OF STATE

22 CFR Part 41

Visas: Documentation of nonimmigrants under the Immigration and Nationality Act, as amended

CFR Correction

In title 22 of the Code of Federal Regulations, parts 1 to 299, revised as of April 1, 2001, part 41 is amended on page 195 by removing the second § 41.57.

[FR Doc. 01-55531 Filed 9-28-01; 8:45 am]

BILLING CODE 1505-01-D